DEPARTMENT OF TRANSPORTATION

Federal Transit Administration

Preparation of an Environmental Impact Statement for High-Capacity Transit Improvements in the Southern Corridor of Honolulu, HI

AGENCY: Federal Transit Administration, DOT.

ACTION: Notice of intent to prepare an Environmental Impact Statement (EIS).

SUMMARY: The Federal Transit Administration (FTA) and the City and County of Honolulu, Department of Transportation Services (DTS) intend to prepare an EIS (and Alternative Analysis (AA)) on a proposal by the City and County of Honolulu to implement transit improvements that potentially include high-capacity transit service in a 25-mile travel corridor between Kapolei and the University of Hawaii at Manoa and Waikiki. Alternatives proposed to be considered in the AA and draft EIS include No Build, Transportation System Management, Managed Lanes, and Fixed Guideway Transit. Other transit alternatives may be identified during the scoping process.

The EIS will be prepared to satisfy the requirements of the National Environmental Policy of 1969 (NEPA) and its implementing regulations. The FTA and DTS request public and interagency input on the purpose and needs to be addressed by the project, the alternatives to be considered, and the scope of the EIS for the corridor, including the alternatives and the environmental and community impacts to be evaluated.

DATES: Scoping Comments Due Date: Written comments on the scope of the NEPA review, including the alternatives to be considered and the related impacts to be assessed, should be sent to DTS by January 9, 2006. See ADDRESSES below.

Scoping Meetings: Meetings to accept comments on the proposed alternatives, scope of the EIS, and purpose of and needs to be addressed by the alternatives will be held on December 13 and 14, 2005 at the locations given in ADDRESSES below. On December 13, 2005, the public scoping meeting will begin at 5 p.m. and continue until 8 p.m. or until all who wish to provide oral comments have been given the opportunity. The meeting on December 14, 2005 will begin at 7 p.m. and continue until 9 p.m. or until all who wish to provide oral comments have been given the opportunity. The locations are accessible to people with disabilities. A court reporter will record oral comments. Forms will be provided on which to provide written comments. Project staff will be available at the meeting to informally discuss the EIS scope and the proposed project. Governmental agencies are also invited to a separate scoping meeting to be held on December 13 from 2 p.m. until 4 p.m. Further information will be available at the scoping meeting and may also be obtained by calling (808) 566-2299, by downloading from http://www.honolulutransit.org, or by e-mailing info@honolulutransit.org.

ADDRESSES: Written comments on the scope of the EIS, including the alternatives to be considered and the related impacts to be assessed, should be sent to both the Department of Transportation Services, City and County of Honolulu, 650 South King Street, 3rd Floor, Honolulu, HI, 96813, Attention: Honolulu High-Capacity Transit Corridor Project, or by the Internet at http://www.honolulutransit.org and Ms. Donna Turchie, Federal Transit Administration, Region IX, 201 Mission Street, Suite 2210, San Francisco, CA 94105 or by e-mail: Donna.Turchie@fta.dot.gov.

The scoping meetings will be held at the Neal S. Blaisdell Center, Pikake Room, at 77 Ward Avenue on December 13, 2005 from 5 p.m. to 8 p.m. and at Kapolei Middle School Cafeteria, at 91-5335 Kapolei Parkway on December 14, 2005 from 7 p.m. to 9 p.m.

FOR FURTHER INFORMATION CONTACT: The FTA contact is Ms. Donna Turchie, Federal Transit Administration, Region IX, 201 Mission Street, Room 2210, San Francisco, CA 94105. Phone: (415) 744-2737. Fax: (415) 744-2726.

SUPPLEMENTARY INFORMATION:

I. Scoping

The FTA and DTS invite all interested individuals and organizations, and Federal, State, and local agencies, to comment on the purpose and need, project alternatives, and scope of the EIS. During the scoping process, comments should focus on the purpose and need for a project, identifying specific transportation problems to be evaluated, or on proposing transportation alternatives that may be less costly, more effective, or have fewer environmental impacts while improving mobility in the corridor. At this time, comments should not focus on a preference for a particular alternative. The opportunity for that type of input will be after the release of the AA final report, which will compare various alternatives.

Following the public scoping process, public outreach activities with interested parties or groups throughout the duration of work on the EIS will occur. The project Web site, http://www.honolulutransit.org, will be updated periodically to reflect the status of the project. Additional opportunities for public participation will be announced through mailings, notices, advertisements, and press releases. Those wishing to be placed on the project mailing list may do so by registering on the Web site at http://www.honolulutransit.org, or by calling (808) 566-2299.

II. Description of Study Area

The proposed project study area is the travel corridor between Kapolei and the University of Hawaii at Manoa (UH Manoa) and Waikiki. This narrow, linear corridor is confined by the Waianae and Koolau mountain ranges to the north (mauka direction) and the ocean to the south (makai direction). The corridor includes the majority of housing and employment on Oahu. The 2000 census indicates that 876,200 people live on Oahu. Of this number, over 552,000 people, or 63 percent, live within the corridor between Kapolei and Manoa/Waikiki. This area is projected to absorb 69 percent of the population growth projected to occur on Oahu between 2000 and 2030, resulting in an expected corridor population of 776,000 by 2030.Over the next twenty-five years, the Ewa/Kapolei area is projected to have the highest rate of housing and employment growth on Oahu. The Ewa/Kapolei area is developing as a “second city” to complement downtown Honolulu. The housing and employment growth in Ewa is identified in the General Plan for the City and County of Honolulu.

III. Purpose and Need

Existing transportation infrastructure in this corridor is overburdened handling current levels of travel demand. Travelers experience substantial traffic congestion and delay at most times of the day, both on weekdays and on weekends. Automobile and transit users on Oahu currently experience 42,000 daily vehicle-hours of delay. By 2030, this is projected to increase nearly seven-fold to 326,000 daily vehicle-hours of delay. Because the bus system primarily operates in mixed traffic, transit users experience the same level of delay as automobile drivers. Current morning peak-period travel times for motorists from Kapolei to downtown average between 40 and 60 minutes. By 2030 the travel times are projected to more than double. Within the urban core most major arterial streets will experience increasing peak congestion, including Ala Moana Boulevard, Dillingham Boulevard, Kalakaua Avenue, Kapiolani Boulevard, King Street and Nimitz Highway. Expansion of the roadway system between Kapolei and UH Manoa study corridor is constrained by physical barriers and by dense urban neighborhoods that abut many existing roadways.

Numerous lower-income and minority workers live in the corridor outside of the urban core and commute to work in the primary urban center. Many of these workers rely on public transit because they are not able to afford the cost of vehicle ownership, operation, and parking.

The intent of the proposed alternatives is to provide improved person-mobility in this highly congested east-west corridor. A high-capacity improvement project would support the goals of the regional transportation plan by serving areas designated for urban growth, provide an alternative to private automobile travel and improve linkages between Kapolei, Honolulu's Urban Center, UH Manoa, Waikiki, and urban areas between these points.

IV. Alternatives

The alternatives proposed for evaluation in the AA and draft EIS were developed through a screening process that identified the best reasonable alternatives from the range of possible alternatives. At a minimum, FTA and DTS propose to consider the following alternatives:

1. No Build Alternative, which would include existing transit and highway facilities and planned transportation projects to the year 2030.

2. Transportation System Management (TSM) Alternative, which would provide an enhanced bus system based on a hub-and-spoke route network, community bus circulators, conversion of the present morning peak hour only zipper lane to both a morning and afternoon peak hour zipper lane configuration, and relatively low-cost capital improvements on selected roadway facilities to give priority to buses. These capital improvements may include: Transportation system upgrades such as intersection improvements, minor road widening, traffic engineering actions, bus route restructuring, shortened bus headways, expanded use of articulated buses, express and limited-stop service, signalization improvements, and timed-transfer operations.

3. Managed Lanes Alternatives, which would include construction of a two-lane grade-separated guideway between Waipahu and Downtown Honolulu for use by buses high-occupancy vehicles (HOVs), and toll-paying single-occupant vehicles. The lanes would be managed by setting the minimum occupancy for HOVs and the tolls for single-occupant vehicles at levels that would preserve free-flow speeds on the facility.

4. Fixed-Guideway Alternatives, which would include the construction and operation of a fixed transit guideway between Kapolei and UH Manoa and Waikiki on one of several possible alignments. Alignment alternatives to be considered include, but are not limited to:

• Kamokila Boulevard/Salt Lake Boulevard/King Street/Hotel Street/Alakea Street/Kapiolani Boulevard Alignment, which would serve various communities and activity centers between Kapolei and UH Manoa, including UH West Oahu, Waipahu, Pearlridge, Aloha Stadium, Salt Lake, Kalihi, Downtown Honolulu, Kakaako, Ala Moana Center, and Moiliili.

• North-South Road/Camp Catlin Road/King Street/Queen Street/Kapiolani Boulevard Alignment, which would serve various communities and activity centers between Kapolei and UH Manoa, including UH West Oahu, Waipahu, Pearlridge, Aloha Stadium, Pearl Harbor, Honolulu International Airport, Salt Lake, Kalihi, Downtown Honolulu, Kakaako, Ala Moana Center, and Moiliili.

• Ft. Weaver Road/Farrington Highway/Kamehameha Highway/Dillingham Boulevard/Kaaahi Street/Beretania Street/King Street/Kaialiu Street Alignment, which would serve various communities and activity centers between Kapolei and UH Manoa, including Kalaeloa, Ewa Villages, Waipahu, Pearlridge, Aloha Stadium, Pearl Harbor, Honolulu International Airport, Kalihi Kai, Downtown Honolulu, Thomas Square, and Moiliili.

• North-South Road/Farrington Highway/Kamehameha Highway/Airport/Dillingham Boulevard/Hotel Street/Kapiolani Boulevard with a Waikiki Spur Alignment, which would serve various communities and activity centers between Kapolei and UH Manoa, including Kalaeloa, UH West Oahu, Waipahu, Pearlridge, Aloha Stadium, Pearl Harbor, Honolulu International Airport, Kalihi Kai, Downtown Honolulu, Kakaako, Ala Moana Center, Moiliili, and Waikiki.

After appropriate public involvement and interagency coordination, other alternatives suggested during scoping may be added if they are found to be environmentally acceptable, financially feasible, and consistent with the purpose of and need for major transportation improvements in the corridor.

V. Probable Effects

The EIS will evaluate and fully disclose the environmental consequences of the construction and operation of an expanded transit system on Oahu. The EIS will evaluate the impacts of all reasonable alternatives on land use, zoning, displacements, parklands, economic development, community disruptions, environmental justice, aesthetics, air quality, noise and vibration, wildlife, vegetation, threatened and endangered species, farmland, water quality, wetlands, waterways, floodplains, enemy, hazardous materials, and cultural, historic, and archaeological resources. Impacts to parklands and historic resources covered by Section 4(f) of the 1966 U.S. Department of Transportation Act also will be addressed.

To ensure that all significant issues related to this proposed action are identified and addressed, scoping comments and suggestions are invited from all interested parties. Comments and questions should be directed to the DTS as noted in the ADDRESSES section above.

VI. FTA Procedures

The EIS is being prepared in accordance with: the National Environmental Policy Act of 1969 (NEPA), as amended, and its implementing regulations by the Council on Environmental Quality (CEQ) regulations (40 CFR parts 1500-1508); the FTA/Federal Highway Administration's “Environmental Impact and Related Procedures” regulations (23 CFR part 771); and Federal transit law (49 U.S.C. 5300) and its implementing regulations for major capital improvements (49 CFR 611). In accordance with FTA policy, the NEPA process will also address the requirements of other applicable environmental laws, regulations, and executive orders, such as the National Historic Preservation Act of 1966, as amended, Section 4(f) of the 1966 U.S. Department of Transportation Act, the Executive Orders on Environmental Stewardship and Transportation Infrastructure Project Reviews, Environmental Justice, Floodplain Management, and Protection of Wetlands.

The first step in preparation of the EIS will be an AA that will be consistent with both the requirements of NEPA for evaluation of a range of reasonable alternatives and the requirements of Federal transit law for consideration of alternatives during the development of major capital investment projects proposed for Federal funding. Upon completion, the AA final report will be available to the public and agencies for review and comment, and public hearings on the AA will be held at advertised locations within the study area. Based on the AA and public and agency comments received, the City and County of Honolulu will identify, a locally preferred alternative (LPA). The second step in preparation of the EIS will be the development of a Draft EIS to add further detail about the LPA and its impacts. Based on the findings in the Draft EIS and comments from the public and agencies, the City and County of Honolulu may decide to request that the LPA enter preliminary engineering (PE) of the LPA. FTA requires that the LPA be adopted and/or confirmed in the conforming Regional Transportation Plan (RTP) for Oahu as a condition for initiation of PE. With adoption into the RTP, and if the LPA meets the evaluation criteria identified in Federal law, FTA will approved the project into PE, which will include the simultaneous preparation of the Final EIS.

Issued on: November 29, 2005.
Leslie T. Rogers,
Regional Administrator.

[FR Doc. 05-23678 Filed 12-6-05; 8:45 am]

BILLING CODE 4910-57-M